DEPARTMENT OF THE INTERIOR

Central Utah Project Completion Act

AGENCY: Department of the Interior, Office of the Assistant Secretary—Water and Science.

ACTION: Notice of Availability, Draft Environmental Assessment (Draft EA), Wasatch County Water Efficiency Project Recycled Water Project.

SUMMARY: Pursuant to Section 102(2)(c) of the National Environmental Policy Act of 1969, as amended, the Department of the Interior and the Central Utah Water Conservancy District are evaluating the impacts of the proposed project.

This project anticipates conveying recycled water in the facilities of the Wasatch County Water Efficiency Project (WCWEP), Bonneville Unit, Central Utah Project (CUP). It would provide an opportunity for more effective and efficient management of water, make efficient use of recycled water, provide opportunities for stream and wetland benefits, and encourage the conservation and wise use of water, all of which are objectives of the CUP Completion Act.

The proposed action would allow recycled water to be conveyed and used in WCWEP facilities and through exchange become CUP water. All water supply commitments under the existing contracts and agreements will continue to be met.

DATES: Submit written comments on the Draft EA to Ms. Sarah Sutherland at the address below by February 16, 2010.

ADDRESSES: Send written comments on the Draft EA to Sarah Sutherland, WCWEP Recycled Water Project, 355 W. University Parkway, Orem, UT 84058-7303, by e-mail to sarah@cuwcd.com, or by Fax at 801-226-7171.

Copies of the Draft EA are available for inspection at:

• Central Utah Water Conservancy District, 355 West University Parkway, Orem, Utah 84058-7303.

• Department of the Interior, Central Utah Project Completion Act Office, 302 East 1860 South, Provo, Utah 84606.

In addition, the document is available at http://www.cuwcd.com.

FOR FURTHER INFORMATION CONTACT: Additional information may be obtained by contacting Mr. Lynn Hansen, Central Utah Project Completion Act Office, 302 East 1860 South, Provo, Utah 84606, by calling (801) 379-1238, or e-mail at lhansen@usbr.gov.

Before including your name, address, phone number, e-mail address, or other personal identifying information in your comment, you should be aware that your entire comment including your personal identifying information, may be made publicly available at any time. While you can ask us in your comment to withhold your personal identifying information from public review, we cannot guarantee that we will be able to do so.

Dated: January 8, 2010.
Reed R. Murray,
Program Director, Central Utah Project Completion Act, Department of the Interior.

[FR Doc. 2010-575 Filed 1-13-10; 8:45 am]

BILLING CODE 4310-RK-P